DEPARTMENT OF THE INTERIOR

National Park Service

60-Day Notice of Intention To Request Clearance of Collection of Information; Opportunity for Public Comment

AGENCY: National Park Service, Department of Interior.

ACTION: Notice of intended submission to the Office of Management and Budget (OMB) and request for comments.

SUMMARY: Under the provisions of the Paperwork Reduction Act of 1995 (44 U.S.C. 3507 et seq.) and 5 CFR part 1320, the National Park Service (NPS) invites comments on its intention to request OMB to approve an existing collection in use with an OMB control number (1024-0245) associated with the United States Park Police Personal History Statements Questionnaire. The purpose of the United States Park Police Personal History Statement Questionnaire is to collect detailed information that will be used principally as a basis for an investigation to determine suitable applicants for the position of United States Park Police Officer.

DATES: To assure that the NPS considers your comments on this notice; NPS must receive the comments on or before February 17, 2004.

SEND COMMENTS TO: Lieutenant Charles A. Orton, Assistant Commander Human Resources Office, United States Park Police, 1100 Ohio Drive, SW., Washington, DC 20024, via fax at 202-619-7479, or via e-mail at Charles_A_Orton@nps.gov.

FOR FURTHER INFORMATION CONTACT: Lieutenant Charles A. Orton, Assistant Commander Human Resources Office, United States Park Police, 1100 Ohio Drive, SW., Washington, DC 20024, via fax at 202-619-7479, or via e-mail at Charles_A_Orton@nps.gov or via telephone at 202-619-7001.

SUPPLEMENTARY INFORMATION:

Title: United States Park Police Personal History Statements Questionnaire.

OMB Number: 1024-0245.

Expiration Date of Approval: 2/29/04.

Type of Request: Existing collection in use with an OMB Control number.

Abstract: This information collection has an impact on individuals that apply to the position of United States Park Police Officer. The NPS uses the information collections to hire adequately screened applicants for the position of United States Park Police Officer.

Respondents: Individual applicants to the position of United States Park Police Officer.

Estimate of Burden: NPS estimates that the public burden for the United States Personal History Statements Questionnaire collection of information will average 8 hours per applicant. This estimate of burden includes time for reviewing instructions, searching information sources, and gathering and reporting the information.

Estimated Number of Respondents: NPS estimates that there are 600 respondents. This is the gross number of respondents for all of the elements included in this information collection. The net number of applicants in this information collection annually are 600 applicants. Applicants complete the application each time a vacancy announcement is published.

Estimated average number of Applicant responses: 600 annually.

Estimated average burden hours per Applicant response: 8 hours.

Estimated Annual Burden on Respondents: 4,800 Hours.

NPS is soliciting comments regarding:

(1) Whether the collection of information is necessary for the proper performance of the functions of NPS, including whether the information will have practical utility;

(2) The accuracy of the burden estimate including the validity of the method and assumptions used;

(3) Ways to enhance the quality, utility, and clarity of the information to be collected;

(4) Ways to minimize the burden of collecting the information, including through the use of appropriate automated, electronic, mechanical, or other forms of information technology; or,

(5) Any other aspect of this collection of information.

NPS will summarize and include in the request for OMB approval all responses to this notice. All comments will also become a matter of public record. You can obtain copies of the information collection from Lieutenant Charles A. Orton, Assistant Commander Human Resources Office, United States Park Police, 1100 Ohio Drive, SW., Washington, DC 20024.

Dated: December 10, 2003.
Leonard E. Stowe,
Acting Information Collection Clearance Officer, National Park Service, WAPC.

[FR Doc. 03-30925 Filed 12-15-03; 8:45 am]

BILLING CODE 4312-JK-M